DEPARTMENT OF TRANSPORTATION

Federal Aviation Administration

14 CFR Part 39

[Docket No. 2001-CE-04-AD]

RIN 2120-AA64

Airworthiness Directives; Raytheon Aircraft Company Beech Models 1900, 1900C (C-12J), and 1900D Airplanes

AGENCY: Federal Aviation Administration, DOT.

ACTION: Notice of proposed rulemaking (NPRM).

SUMMARY: This document proposes to supersede Airworthiness Directive (AD) 95-02-18, which currently requires repetitive inspections of the engine truss assemblies for cracks on certain Raytheon Aircraft Company (Raytheon) Beech Models 1900, 1900C (C-12J), and 1900D airplanes, repair or replacement of any cracked engine truss assembly, and installation of reinforcement doublers. This proposed AD is the result of continued reports of fatigue cracks found on engine trusses on airplanes in compliance with AD 95-02-18. The proposed AD would require engine truss assembly replacement, periodic inspections and replacements, and the eventual incorporation of a cowling support installation kit as terminating action. The repetitive inspections of AD 95-02-18 would be retained until mandatory engine truss assembly replacement. The actions specified by the proposed AD are intended to detect and correct cracked engine truss assemblies, which could result in failure of the engine truss assembly and consequent loss of airplane control.

DATES: The Federal Aviation Administration (FAA) must receive any comments on this rule on or before August 30, 2001.

ADDRESSES: Submit comments in triplicate to FAA, Central Region, Office of the Regional Counsel, Attention: Rules Docket No. 2001-CE-04-AD, 901 Locust, Room 506, Kansas City, Missouri 64106. Comments may be inspected at this location between 8 a.m. and 4 p.m., Monday through Friday, holidays excepted.

Service information that applies to the proposed AD may be obtained from the Raytheon Aircraft Company, P.O. Box 85, Wichita, Kansas 67201-0085; telephone: (800) 625-7043 or (316) 676-4556. This information also may be examined at the Rules Docket at the address above.

FOR FURTHER INFORMATION CONTACT: Mr. David L. Ostrodka, Aerospace Engineer, FAA, Wichita Aircraft Certification Office, 1801 Airport Road, Mid-Continent Airport, Wichita, Kansas 67209; telephone: (316) 946-4129; facsimile: (316) 946-4407.

SUPPLEMENTARY INFORMATION:

Comments Invited

How Do I Comment on the Proposed AD?

The FAA invites comments on this proposed rule. You may submit whatever written data, views, or arguments you choose. You need to include the rule's docket number and submit your comments in triplicate to the address specified under the caption ADDRESSES. The FAA will consider all comments received on or before the closing date. We may amend the proposed rule in light of comments received. Factual information that supports your ideas and suggestions is extremely helpful in evaluating the effectiveness of the proposed AD action and determining whether we need to take additional rulemaking action.

Are There Any Specific Portions of the Proposed AD I Should Pay Attention To?

The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

We are re-examining the writing style we currently use in regulatory documents, in response to the Presidential memorandum of June 1, 1998. That memorandum requires federal agencies to communicate more clearly with the public. We are interested in your comments on whether the style of this document is clear, and any other suggestions you might have to improve the clarity of FAA communications that affect you. You can get more information about the Presidential memorandum and the plain language initiative at http://www.plainlanguage.gov.

How Can I Be Sure FAA Receives My Comment?

If you want us to acknowledge the receipt of your comments, you must include a self-addressed, stamped postcard. On the postcard, write “Comments to Docket No. 2001-CE-04-AD.” We will date stamp and mail the postcard back to you.

Discussion

Has FAA Taken Any Action on the Engine Truss Assemblies of Raytheon Beech Models 1900, 1900C (C-12J), and 1900D Airplanes To This Point?

Continued problems with fatigue cracking of the engine truss assemblies on Raytheon Beech Models 1900, 1900C (C-12J), and 1900D airplanes caused FAA to issue AD 95-02-18, Amendment 39-9136 (60 FR 6652, February 3, 1995). This AD currently requires the following:

—Repetitive inspections of the engine truss assemblies for cracks;

—Repair or replacement of any cracked engine truss assembly; and

—Installation of reinforcement doublers.

What Has Happened Since AD 95-02-18 To Initiate This Action?

The FAA continues to receive reports of engine truss fatigue cracks on Raytheon Beech Models 1900, 1900C (C-12J), and 1900D airplanes. The reports reference airplanes that are in compliance with AD 95-02-18.

The fatigue cracks are developing as a result of operational stresses in joints, welded bracketry, and linoil holes sealed by drive screws.

Relevant Service Information

Has the Manufacturer Issued Service Information and What Are the Provisions of This Information?

Raytheon has issued the following service bulletins to address this subject:

Service Bulletin | Provisions
Raytheon Aircraft Mandatory Service Bulletin SB 2255, Revision 10, Revised, June 1999 | Includes instructions for inspecting the part number (P/N) 114-910025-1, 118-910025-1, 118-910025-37, 118-910025-121, and 129-910032-79 engine truss assemblies for fatigue cracks. Also includes procedures for replacing the engine truss assembly with a P/N 129-910047 engine truss assembly.
Raytheon Aircraft Mandatory Service Bulletin SB 71-3144, Revision 1, Revised: April 1999 | Includes procedures for engine truss assembly inspection and rework, including: —inspection of the linoil holes and replacement of the drive screws; —incorporation of a cowling support installation kit as terminating action for the inspections.
Raytheon Aircraft Mandatory Service Bulletin SB 71-3024, Issued: September 1997 | Includes procedures for obtaining and installing a placard that specifies the part number of the engine truss assembly.

The FAA's Determination and Explanation of the Provisions of the Proposed AD What Has FAA Decided?

After examining the circumstances and reviewing all available information related to the information described above, we have determined that:

—The unsafe condition referenced in this document exists or could develop on other Raytheon Beech Models 1900, 1900C (C-12J), and 1900D airplanes of the same type design;

—The inspections specified in the above-referenced service information should be accomplished on the affected airplanes; and

—AD action should be taken in order to detect and correct cracked engine truss assemblies, which could result in failure of the engine truss assembly and consequent loss of airplane control.

What Would the Proposed AD Require?

This proposed AD would supersede AD 95-02-18 with a new AD that would require engine truss assembly replacement, periodic inspections and replacements, and the eventual incorporation of a cowling support installation kit as terminating action. The repetitive inspections of AD 95-02-18 would be retained until mandatory engine truss assembly replacement.

Accomplishment of the proposed actions would be required in accordance with the previously-referenced service information.

Cost Impact

How Many Airplanes Would the Proposed AD Impact?

We estimate that the proposed AD affects up to 236 airplanes in the U.S. registry.

What Would Be the Cost Impact of the Proposed AD on Owners/Operators of the Affected Airplanes?

We estimate the following costs to accomplish the proposed actions:

| Engine truss replacement | Drive screw inspection and replacement | Cowling support kit installation | Placard installation
Number of Airplanes Affected | 12 | 236 | 210 | 234
Cost Per Airplane: Workhours + Parts Cost | 34 workhours × $60 per hour + $6,000 (average) for parts = $8,040 per airplane | 4 workhours × $60 per hour + $12 for parts = $252 per airplane | 6 workhours × $60 per hour + $35 for parts = $395 per airplane | 1 workhour × $60 per hour + $5 for parts = $65 per airplane.
Fleet Cost: Cost Per Airplane × Number of airplanes | $8,040 × 12 airplanes = $96,480 | $252 × 236 airplanes = $59,472 | $395 × 210 airplanes = $82,950 | $65 × 234 airplanes = $15,210.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend 14 CFR part 39 of the Federal Aviation Regulations as follows:

PART 39—AIRWORTHINESS DIRECTIVES

1. The authority citation for part 39 continues to read as follows:

Authority: 49 U.S.C. 106(g), 40113, 44701.

§ 39.13 [Amended]

2. FAA amends § 39.13 by removing Airworthiness Directive (AD) AD 95-02-18, Amendment 39-9136 (60 FR 6652, February 3, 1995), and by adding a new AD to read as follows:

Raytheon Aircraft Company (Beech Aircraft Corporation formerly held Type Certificate (TC) No. A-24CE): Docket No. 2001-CE-04-AD; Supersedes AD 95-02-18, Amendment 39-9136.

(a) What airplanes are affected by this AD? This AD affects the following model and serial number airplanes that are certificated in any category:

Model | Serial numbers
Beech Model 1900 | UA-2 and UA-3
Beech Model 1900C | UB-1 through UB-74 and UC-1 through UC-174
Beech Model 1900C (C-12J) | UD-1 through UD-6
Beech Model 1900D | UE-1 through UE-302

(b) Who must comply with this AD? Anyone who wishes to operate any of the above airplanes must comply with this AD.

(c) What problem does this AD address? The actions specified by the AD are intended to detect and correct cracked engine truss assemblies, which could result in failure of the engine truss assembly and consequent loss of airplane control.

(d) What actions must I accomplish to address this problem on the affected airplanes? To address this problem, accomplish the following:

Action | Compliance | Procedures
(1) If you do not have a part number (P/N) 129-910047-1, 129-910047-13, or 129-910047-17 engine truss assembly (or FAA-approved equivalent P/N) installed, accomplish the following: (i) Inspect the engine truss assembly for cracks and replace any cracked truss with a P/N truss specified in paragraph (d)(1)(ii) of this AD; and (ii) Replace the engine truss assembly with a P/N 129-910047-1, 129-910047-13, or 129-910047-17 assembly (or FAA-approved equivalent P/N). | Inspect in accordance with the schedule outlined in the Appendix to this AD (taken from AD 95-02-18, as specified in Raytheon Aircraft Mandatory Service Bulletin No. 2255, Revision 10, Revised, June, 1999). Replace within the next 100 hours time-in-service (TIS) after the effective date of this AD if the truss is not cracked and prior to further flight if the truss is cracked | Inspect and replace in accordance with the instructions in Raytheon Aircraft Mandatory Service Bulletin No. 2255. Revision 10, Revised, June 1999. Accomplishing the inspection (only) using a previous revision to this service bulletin is acceptable.
(2) For airplanes equipped with a P/N 129-910047-1 or 129-910047-13 engine truss assembly (or FAA-approved equivalent P/N), inspect for linoil hole mislocation and cracks in Area A as depicted in the referenced service information and replace the engine truss assembly if any mislocated hole or crack is found during any inspection | Inspect upon accumulating 100 hours TIS on the engine truss assembly or within 25 hours TIS after the effective date of this AD, whichever occurs later, unless already accomplished, and thereafter at intervals not to exceed 100 hours TIS. Accomplish any necessary engine truss assembly replacement prior to further flight where any mislocated hole or crack is found | Accomplish inspections and replacements in accordance with Part I of the ACCOMPLISHMENT INSTRUCTIONS section of Raytheon Aircraft Mandatory Service Bulletin SB 71-3144, Revision 1, Revised: April, 1999.
(3) For airplanes equipped with a P/N 129-910047-1 or 129-910047-13 engine truss assembly (or FAA-approved equivalent P/N), accomplish the following: (i) Inspect the engine cowling support bracket for cracks and rework any cracked engine cowling support bracket; and (ii) Install Kit No. 129-9017-1 reinforcements on the engine cowling support bracket. The inspections required by paragraph (d)(3)(i) of this AD are no longer necessary when Kit No. 129-9017-1 is incorporated. | Inspect upon accumulating 200 hours TIS on the engine truss assembly or within 25 hours TIS after the effective date of this AD, whichever occurs later, unless already accomplished, and thereafter at intervals not to exceed 200 hours TIS. Accomplish any necessary engine cowling support rework prior to further flight where any cracked bracket is found. Install the engine cowling support bracket reinforcements upon accumulating 1,200 hours TIS on the engine truss assembly or within the next 100 hours TIS after the effective date of this AD, whichever occurs later. | Accomplish inspections, repairs, and installations in accordance with Part III of the ACCOMPLISHMENT INSTRUCTIONS section of Raytheon Aircraft Mandatory Service Bulletin SB 71-3144, Revision 1, Revised: April, 1999.
(4) For airplanes equipped with a P/N 129-910047-1 or 129-910047-13 engine truss assembly (or FAA-approved equivalent P/N), replace all remaining linoil drive screws (those not in Area A). The inspections required by paragraph (d)(2) of this AD are no longer required when these screws are replaced | Upon accumulating 8,000 hours TIS on the engine truss assembly or at the next engine truss assembly removal, whichever occurs later | Accomplish these replacements in accordance with Part II of the ACCOMPLISHMENT INSTRUCTIONS section of Raytheon Aircraft Mandatory Service Bulletin SB 71-3144, Revision 1, Revised: April, 1999.
(5) For airplanes equipped with a P/N 129-910047-1 or 129-910047-13 engine truss assembly (or FAA-approved equivalent P/N), install a P/N 129-910047-15 truss identification placard on the engine truss assembly | Within 12 months after the effective date of this AD or upon installation of a P/N 129-910047-1 or 129-910047-13 engine truss assembly, whichever occurs later | Accomplish this installation in accordance with the ACCOMPLISHMENT INSTRUCTIONS section of Raytheon Aircraft Service Bulletin SB.71-3024, Issued: September, 1997.
(6) Do not install, on any affected airplane, an engine truss assembly that is not P/N 129-910047-1, 129-910047-13, or 129-910047-17 (or FAA-approved equivalent P/N) | As of the effective date of this AD | Not Applicable.

(e) Can I comply with this AD in any other way?

(1) You may use an alternative method of compliance or adjust the compliance time if:

(i) Your alternative method of compliance provides an equivalent level of safety; and

(ii) The Manager, Wichita Aircraft Certification Office (ACO), approves your alternative. Submit your request through an FAA Principal Maintenance Inspector, who may add comments and then send it to the Manager, Wichita ACO.

(2) Alternative methods of compliance approved in accordance with AD 95-02-18, which is superseded by this AD, are not approved as alternative methods of compliance with this AD.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mr. David L. Ostrodka, Aerospace Engineer, FAA, Wichita Aircraft Certification Office, 1801 Airport Road, Mid-Continent Airport, Wichita, Kansas 67209; telephone: (316) 946-4129; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from the Raytheon Aircraft Company, P.O. Box 85, Wichita, Kansas 67201-0085. You may examine these documents at FAA, Central Region, Office of the Regional Counsel, 901 Locust, Room 506, Kansas City, Missouri 64106.

(i) Does this AD action affect any existing AD actions? This amendment supersedes AD 95-02-18, Amendment 39-9136.

Appendix to Docket No. 2001-CE-04-AD

The following is the compliance schedules for the inspections required in this AD. These are duplicated from AD 95-02-18, Amendment 39-9136:

1. For all affected airplanes having engine truss P/N 129-910032-79 installed, initially and repetitively inspect the engine truss for cracks at the weld joints in accordance with the ACCOMPLISHMENT INSTRUCTIONS section of Beech SB 2255, Revision VI, dated August 1994, at the times specified in the following chart:

Models | Area specified in figure 1 of beech SB No. 2255, Rev. VI | Initial inspection | Repetitive inspections
1900 and 1900C | A | Upon accumulating 1,400 hours TIS * | every 100 hours TIS
1900 and 1900C | B and C | Upon accumulating 3,200 hours TIS * | every 100 hours TIS
1900D | A | Upon accumulating 3,200 hours TIS * | every 450 hours TIS
1900D | B and C | Upon accumulating 3,200 hours TIS * | every 3,000 hours TIS
* or within the next 100 hours TIS after March 25, 1995 (the effective date of AD 95-02-18), whichever occurs later.

2. For all Models 1900 and 1900C airplanes having engine truss P/N 118-9100-25-37, P/N 118-910025-121, P/N 114-910025-1 or P/N 118-910025-1, initially and repetitively inspect the engine truss for cracks at the weld joints in accordance with the ACCOMPLISHMENT INSTRUCTIONS section of Beech Service Bulletin (SB) 2255, Revision VI, dated August 1994, at the times specified in the following chart:

Area specified in figure 1 of beech SB N. 2255, Rev. VI | Initial inspection | Repetitive inspections
A | Upon accumulating 1,400 hours TIS * | every 100 hours TIS
B | Upon accumulating 1,400 hours TIS * | every 600 hours TIS
C | Upon accumulating 1,400 hours TIS * | every 3,000 hours TIS
* or within the next 100 hours TIS after March 25, 1995 (the effective date of AD 95-02-18), whichever occurs later.

Issued in Kansas City, Missouri, on July 3, 2001.
Dorenda D. Baker,
Acting Manager, Small Airplane Directorate, Aircraft Certification Service.

[FR Doc. 01-17166 Filed 7-10-01; 8:45 am]

BILLING CODE 4910-13-P